DEPARTMENT OF AGRICULTURE

Intent To Establish the Tribal Advisory Committee and Solicitation of Nominations for Membership to the Committee

AGENCY: United States Department of Agriculture (USDA).

ACTION: Notice of establishment the Tribal Advisory Committee and solicit nominations for membership.

SUMMARY: In accordance with section 12303 of the Agriculture Improvement Act of 2018 and the Federal Advisory Committee Act, as amended, the United States Department of Agriculture announces its intent to establish of the Tribal Advisory Committee by the Secretary of Agriculture. The Tribal Advisory Committee will advise the Secretary on matters related to Tribal and Indian affairs. The Tribal Advisory Committee will be governed by the provisions of FACA as applicable. Duration of the Tribal Advisory Committee is required by legislation to be permanent, and the Charter will be renewed biannually by the Secretary of Agriculture. This notice also solicits for nominations for membership on the Tribal Advisory Committee.

DATES: Nominations must be submitted via email or postmarked by August 14, 2023.

ADDRESSES: Please submit nominations and resumes for recognition and appointment by the Secretary of Agriculture and Chair and Ranking members of the Senate Committee on Indian Affairs; House Committee on Agriculture; and Senate Committee on Agriculture, Nutrition, and Forestry through Josiah Griffin, Designated Federal Officer, to 1400 Independence Ave. SW, Room 501-A, Washington, DC, and 20250.

FOR FURTHER INFORMATION CONTACT: Inquiries may be sent to, Josiah Griffin, Designated Federal Officer, USDA, Office of Tribal Relations, 1400 Independence Ave. SW, Room 501-A, Washington, DC, and 20250 or at (202) 205-2249 and Josiah.Griffin@usda.gov.

SUPPLEMENTARY INFORMATION:

Public Law 115-334 of section 12303 of the Agriculture Improvement Act of 2018 directs the Secretary of the United States Department of Agriculture to create the Tribal Advisory Committee to advise the Agency on matters related to Tribal and Indian affairs.

The duties of the Committee as directed by the authorizing legislation include identifying issues of relevance to Indian tribes relating to programs of the Department; communicating to the Secretary the issues identified; submitting to the Secretary recommendations for and solutions to these issues, other issues raised at the Tribal, regional, or national level, and issues relating to any Tribal consultation carried out by the Department; discussing issues and proposals for changes to regulations, policies, and procedures of the Department that impact Indian tribes; identifying priorities and providing advice on appropriate strategies for Tribal consultation; ensuring that pertinent issues of the Department are brought to the attention of an Indian tribe in a timely manner so that timely feedback can be obtained; and identifying and proposing solutions to any interdepartmental barriers between the Department and other Federal agencies.

The Committee is required to meet no less than twice per year, anticipated to be mid-Calendar year and at the end of each Calendar year. Additionally, USDA anticipates this Committee to convene over virtual/teleconference in those quarters where an in-person meeting is not otherwise scheduled. The Committee members shall be compensated at the level IV executive schedule daily rate for each day of participation in an officially scheduled, quarterly meeting of the full Committee in addition to each travel to and from these in-person Committee meetings. Once convened in full, the Committee will vote to elect a chairperson for the Committee to facilitate Committee member discussion and activity and a vice-chairperson to fill this role in lieu of the chairperson when unavailable.

Discussion Solicitation for Nominations and Membership Criteria

Of the eleven (11) members to be appointed to the Tribal Advisory Council, three (3) of which shall be appointed by the Secretary of Agriculture; one (1) by the chairperson of the Committee on Indian Affairs of the Senate; one (1) by the ranking member of the Committee on Indian Affairs of the Senate; one (1) by the chairperson of the Committee on Agriculture, Nutrition, and Forestry of the Senate; one (1) by the ranking member of the Committee on Agriculture, Nutrition, and Forestry of the Senate; two (2) by the chairperson of the Committee on Agriculture of the House of Representatives; and two (2) by the ranking member of the Committee on Agriculture of the House of Representatives. Each appointment shall be made for no longer than three (3) years except for the first appointment of the Agriculture Secretary, which shall be for a period of two (2) years. All subsequent terms shall be for a period of three (3) years.

To the extent feasible, the Secretary will coordinate the aforementioned Congressional committee leadership to ensure that the members of the Tribal Advisory Committee represent a diverse set of expertise on issues relating to geographic regions, Indian tribes, and the agricultural industry, including in subsistence and fisheries.

Membership Nominations Information

Pursuant to the statute, nominations may be submitted by an Indian tribe as defined by 25 U.S.C. 5304, a Tribal organization as defined by 25 U.S.C. 5304, or a national or regional organization with expertise in issues relating to the above duties of the Committee. Individuals who wish to be considered for membership on Tribal Advisory Committee must submit a nomination with information, including a background disclosure form (Form AD-755). All interested nominees, whether they wish to be appointed by the Secretary or one of the Senate or Congressional Committees, shall use this same Federal Register process. All official Appointees will each have access to this same Federal Register nomination process.

Nominations should be typed and include the following:

1. If nominating an individual, a brief summary, no more than two pages, explaining the nominee's qualifications to serve on the Tribal Advisory Committee and addressing the membership composition and criteria described above.

2. A resume providing the nominee's background, experience, and educational qualifications.

3. A completed Advisory Committee or Research and Promotion Background Information form (AD-755) signed by the nominee. https://www.ocio.usda.gov/sites/default/files/docs/2012/AD-755-Approved_Master-exp-3.31.22_508.pdf.

4. Letters of endorsement are optional.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women and person with disabilities. USDA is an equal opportunity provider, employer, and lender.

Dated: June 23, 2023.
Cikena Reid,
USDA Committee Management Officer.

[FR Doc. 2023-13728 Filed 6-27-23; 8:45 am]

BILLING CODE 3420-AG-P